DEPARTMENT OF STATE

[Public Notice 5777]

Determination and Waiver of Section 517(a) of the Foreign Operations, Export Financing, and Related Programs Appropriations Act (2006) (Pub. L. 109-102), as Carried Forward Under the Revised Continuing Appropriations Resolution, 2007 (Pub. L. 110-5), Relating to Assistance for the Independent States of the Former Soviet Union

Pursuant to the authority vested in me as Deputy Secretary of State, including by Section 517(a) of the Foreign Operations, Export Financing, and Related Programs Appropriations Act (2006) (Pub. L. 109-102), as Carried Forward Under the Revised Continuing Appropriations Resolution, 2007 (Pub. L. 110-5), Executive Order 13118 of March 31, 1999, and State Department Delegation of Authority No. 245 of April 23, 2001, I hereby determine that it is in the national security interest of the United States to make available funds appropriated under the heading “Assistance for the Independent States of the Former Soviet Union” in Title II of the FOAA, as carried forward under the CR, without regard to the restriction in that section.

This determination shall be reported to the Congress promptly and published in the Federal Register.

Dated: April 4, 2007.
John D. Negroponte,
Deputy Secretary of State, Department of State.

[FR Doc. E7-7273 Filed 4-16-07; 8:45 am]

BILLING CODE 4710-23-P